DEPARTMENT OF TRANSPORTATION

Maritime Administration

[Docket No. MARAD-2024-0141]

Request for Comments on the Renewal of a Previously Approved Collection: Approval of Underwriters for Marine Hull Insurance

AGENCY: Maritime Administration, DOT.

ACTION: Notice.

SUMMARY: The Maritime Administration (MARAD) invites public comments on our intention to request the Office of Management and Budget (OMB) approval to renew an information collection in accordance with the Paperwork Reduction Act of 1995. The proposed collection OMB 2133-0517 (Approval of Underwriters for Marine Hull Insurance) is used to provide approval of foreign underwriters on the basis of an assessment of their financial condition, the regulatory regime under which they operate, and a statement attesting to a lack of discrimination in their country against U.S. hull insurers. The regulations also require that American underwriters be given an opportunity to compete for every placement, thereby necessitating in some cases certification that such opportunity was offered. We are required to publish this notice in the Federal Register to obtain comments from the public and affected agencies.

ADDRESSES: Written comments and recommendations for the proposed information collections should be sent within 30 days of publication of this notice to www.reginfo.gov/public/do/PRAMain. Find this particular information collection by selecting “Currently under 30-day Review—Open for Public Comments” or by using the search function.

FOR FURTHER INFORMATION CONTACT: Cameryn Miller, (202) 366-0907, Office of Marine Insurance, Maritime Administration, U.S. Department of Transportation, 1200 New Jersey Ave SE, Washington, DC 20590, Email: cameryn.miller@dot.gov.

SUPPLEMENTARY INFORMATION:

Title: Approval of Underwriters for Marine Hull Insurance.

OMB Control Number: 2133-0517.

Type of Request: Extension without change of a currently approved information collection.

Abstract: This collection of information involves the approval of marine hull underwriters to insure MARAD program vessels. Applicants will be required to submit financial data upon which MARAD approval would be based. This information is needed in order that MARAD officials can evaluate the underwriters and determine their suitability for providing marine hull insurance on MARAD vessels.

Respondents: Marine Insurance Underwriters and Brokers.

Affected Public: Businesses or other for profit.

Estimated Number of Respondents: 66.

Estimated Number of Responses: 66.

Estimated Hours per Response: .5-1 hour.

Annual Estimated Total Annual Burden Hours: 49.

Frequency of Response: Once Annually.

A 60-day Federal Register Notice soliciting comments on this information collection was published on August 8, 2024 (89 FR 65011).

(Authority: The Paperwork Reduction Act of 1995; 44 U.S.C. Chapter 35, as amended; and 49 CFR 1.49.)

By Order of the Maritime Administrator.
T. Mitchell Hudson, Jr.,
Secretary, Maritime Administration.

[FR Doc. 2024-24974 Filed 10-25-24; 8:45 am]

BILLING CODE 4910-81-P